FEDERAL COMMUNICATIONS COMMISSION

Public Information Collections Approved by Office of Management and Budget

March 17, 2004.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW, Washington DC, 20554, (202) 418-1359 or via the Internet at plaurenz@fcc.gov.

SUPPLEMENTARY INFORMATION:

OMB Control No.: 3060-1044.

OMB Approval date: 3/02/2004.

Expiration Date: 3/31/2007.

Title: Review of the Section 251 Unbundling Obligations of Incumbent Local Exchange Carriers CCDckt # 01-338, 96-98, 98-147, Report and Order and Order on Remand and Further NPRM.

Form No.: N/A.

Estimated Annual Burden: 2,369 responses; 74,120 total annual hours; 31-32 hours per respondent.

Needs and Uses: In the Report and Order on Remand and Further Notice of Proposed Rulemaking, issued in CC Dockets 01-338, 96-98, 98-147, the Commission adopts new rules to govern the availability of unbundled network elements to competitive local exchange carriers from incumbent local exchange carriers. The Commission amends its standard for determining which network elements must be provided on an unbundled basis and determines which network elements meet this standard. The Commission establishes eligibility criteria for certain combinations of unbundled network elements. The Commission allows state regulatory commissions to initiate proceedings to make additional determinations consistent with specific Commission guidance.

OMB Control No.: 3060-0513.

OMB Approval date: 3/02/2004.

Expiration Date: 3/31/2007.

Title: ARMIS Joint Cost Report.

Form No.: FCC 43-03.

Estimated Annual Burden: 85 responses; 4,250 total annual hours; 50 hours per respondent.

Needs and Uses: The Joint Cost Report is needed to administer our joint cost rules (Part 64) and to analyze data in order to prevent cross-subsidization of nonregulated operations by the regulated operations of Tier 1 carriers.

OMB Control No.: 3060-0496.

OMB Approval date: 3/02/2004.

Expiration Date: 3/31/2007.

Title: The ARMIS Operating Data Report.

Form No.: FCC 43-08.

Estimated Annual Burden: 55 responses; 7,645 total annual hours; 139 hours per respondent.

Needs and Uses: The Operating Data Report collects annual statistical data in a consistemt format that is essential for the Commission to monitor network growth, usage, and reliability.

OMB Control No.: 3060-0942.

OMB Approval date: 3/02/2004.

Expiration Date: 3/31/2007.

Title: In the Matter of Access Charge Reform, Price Cap Performance Review for Local Exchange Carriers, Low-Volume Long Distance Users, Federal-State Joint Board On Universal Service.

Form No.: N/A.

Estimated Annual Burden: 108 responses; 6,677 total annual hours; 61-62 hours per respondent.

Needs and Uses: The Report and Order implements the Coalition for Affordable Local and Long Distance Services (CALLS) Proposal, which resolves major outstanding issues concerning access charges; the pending NPRM to address implicit universal service support in access charges, the X-factor remand, the Low-Volume Long-Distance Users NOI, the pending NPRM on geographically deaveraging SLCs and the next scheduled price cap performance review.

Federal Communications Commission.
Marlene H. Dortch,
Secretary.

[FR Doc. 04-6561 Filed 3-23-04; 8:45 am]

BILLING CODE 6712-01-P